DEPARTMENT OF AGRICULTURE

Submission for OMB Review; Comment Request

November 29, 2011.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602. Comments regarding these information collections are best assured of having their full effect if received within 30 days of publication of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agriculture Statistics Service

Title: Childhood Injury and Adult Occupational Survey.

OMB Control Number: 0535-0235.

Summary of Collection: Primary function of the National Agricultural Statistics Services (NASS) is to prepare and issue state and national estimates of crop and livestock production under the authority of 7 U.S.C 2204(a). NASS has been asked by the National Institute of Occupational Safety Health (NIOSH) to conduct a childhood injury and adult occupational injury survey. Together the survey's are designed to: (1) Provide estimates of childhood nonfatal injury incidence rates, annual injury frequencies, and descriptive injury information for children under the age of 20 living on, working on, or visiting on farming operations in the U.S.; and (2) provide estimates of the annual occupational adult nonfatal injury incidence rates, annual occupational injury frequencies and descriptive injury information for farm operators and their employees 20 years of age or older.

Need and Use of the Information: Data from these survey's will provide a source of consistent information that NIOSH can use to target funds appropriated by Congress for the prevention of childhood agricultural injuries and adult occupational injuries. No source of data on childhood injuries or adult occupational farm injuries exists that covers all aspects of the agricultural production sector.

Description of Respondents: Farms.

Number of Respondents: 25,000.

Frequency of Responses: Reporting: Annually.

Total Burden Hours: 7,667.

Charlene Parker,
Departmental Information Collection Clearance Officer.

[FR Doc. 2011-31037 Filed 12-1-11; 8:45 am]

BILLING CODE 3410-20-P